DEPARTMENT OF THE INTERIOR

National Park Service

Presidential Commission for the National Museum of African American History and Culture; Meeting

AGENCY: National Park Service, Interior.

ACTION: Notice of meeting.

Notice is hereby given in accordance with the Federal Advisory Committee Act, 5 U.S.C. Appendix, that the Presidential Commission for the National Museum of African American History and Culture will meet July 16th and 17th, 2002, in Ballroom 2 of the Washington Court Hotel, 525 New Jersey Avenue, NW, Washington, DC. The Board will convene at 8 a.m. on the 16th and at 9 a.m. on the 17th, and adjourn at 5:30 p.m. on the 16th and at 12:30 PM on the 17th.

During the morning session on July 16th, 2002, after the swearing-in of the Commissioners, the Bill sponsors will be invited to address the members of the Commission on their vision of what a National Museum of African American History and Culture might be and what the charge of the Commission is in regards to a Plan of Action for a National Museum. These sponsors include: Representative John Lewis, (D-GA); Representative J.C. Watts, (R-OK); Senator Sam Brownback, (R-KS); and Senator Max Cleland, (D-GA).

National Park Service Director Fran Mainella will address the Board and then Commissioners will have the opportunity to introduce themselves.

Dr. John Hope Franklin, Professor Emeritus, Duke University, has been invited to deliver an address to the Commissioners about the meaning of a National Museum dedicated to African American History and Culture.

In the afternoon, the Commission will travel to various locations on or adjacent to the Mall to visit sites that may be considered for use as the location for a National Museum of African American History and Culture.

On the morning of July 17th, 2002, the Commission will hear from representatives of the Association of African American Museums, the Association for the Study of African American Life and History, the Joint Center for Political and Economic Studies, the African American Cultural Complex, Inc.; the Friends of the National Museum of African American History and Culture; the American Association of Museums, and the Smithsonian Institution.

Later in the morning, beginning at 10:30 AM, the Commission will hear public testimony regarding the National Museum for African American History and Culture.

The Commission meeting will be open to the public. Space and facilities to accommodate the public are limited and attendees will be accommodated on a first-come basis.

Assistance to Individuals With Disabilities at the Public Meeting

The meeting site is accessible to individuals with disabilities. If you plan to attend and will need an auxiliary aid or service to participate in the meeting (e.g., interpreting service, assistive listening device, or materials in an alternative format), notify the contact person listed in this notice at least two weeks (2 weeks) before the scheduled meeting date. Attempts will be made to meet any request(s) we receive after that date, however we may not be able to make the requested auxiliary aid or service available because of insufficient time to arrange for it.

Anyone may file a written statement concerning the establishment of a National Museum for African American History and Culture with the Commission. The Commission may also permit attendees to address the assembled Commission, but may restrict the length of the presentations, as necessary to allow the Commission to complete its agenda within the allotted time.

Anyone who wishes further information concerning the meeting, or who wishes to submit a written statement, may contact Kate Stevenson, Office of Historic Preservation, Recreation & Partnerships, National Park Service, 1849 C Street, NW, Washington, DC 20240 (telephone (202) 208-7625).

Draft minutes of the meeting will be available for public inspection approximately 12 weeks after the meeting, in room 3327, Main Interior Building, 1849 C Street, NW, Washington, DC.

Kate Stevenson,
Associate Director, Historic Preservation, Recreation & Partnerships, National Park Service.

[FR Doc. 02-16710 Filed 7-2-02; 8:45 am]

BILLING CODE 4310-70-P